DEPARTMENT OF TRANSPORTATION

Maritime Administration

[Docket No. MARAD-2026-0265]

Request for Comments on the Renewal of a Previously Approved Information Collection: Effective U.S. Control (EUSC)/Parent Company

AGENCY: Maritime Administration (MARAD), U.S. Department of Transportation (DOT).

ACTION: Notice.

SUMMARY: MARAD invites public comments on its intention to request Office of Management and Budget (OMB) approval to renew an information collection in accordance with the Paperwork Reduction Act of 1995. The proposed collection OMB 21330511 (Effective U.S. Control (EUSC)/Parent Company) is used to identify useful and available oceangoing vessels for the deployment of U.S. military equipment and supplies for the Department of Defense, to sustain U.S. forces during a foreign theater of operations. MARAD is required to publish this notice in the Federal Register to obtain comments from the public and affected agencies.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: George Jackson, 202-366-4029, U.S. Department of Transportation, Maritime Administration, 1200 New Jersey Avenue SE, Washington, DC 20590, Email: george.jackson@dot.gov.

SUPPLEMENTARY INFORMATION:

Title: Effective U.S. Control (EUSC)/Parent Company.

OMB Control Number: 2133-0511.

Type of Request: Extension without change of a previously approved collection.

Abstract: This information collection includes a detailed inventory of foreign-registered vessels owned by U.S. citizens, which is essential to logistical support planning operations conducted by MARAD officials. Collected information could also be vital during national and international emergencies.

Respondents: U.S. citizens who own foreign-registered vessels.

Affected Public: Business or other for-profit.

Estimated Number of Respondents: 60.

Estimated Number of Responses: 60.

Estimated Hours per Response: 1.

Annual Estimated Total Annual Burden Hours: 60.

Frequency of Response: Annually.

A 60-day Federal Register Notice soliciting comments on this information collection was published on December 23, 2026 (90 Federal Register (FR) 60235).

(Authority: The Paperwork Reduction Act of 1995; 44 U.S.C. Chapter 35, as amended; and 49 CFR 1.49.)

By Order of the Maritime Administrator.
T. Mitchell Hudson, Jr.,
Secretary, Maritime Administration.

[FR Doc. 2026-03974 Filed 2-26-26; 8:45 am]

BILLING CODE 4910-81-P